FEDERAL COMMUNICATIONS COMMISSION

Information Collection Being Submitted for Review and Approval to the Office of Management and Budget (OMB)

AGENCY: Federal Communications Commission (FCC).

ACTION: Notice; request for comments.

SUMMARY: As part of its continuing effort to reduce paperwork burden and as required by the Paperwork Reduction Act (PRA) of 1995 (44 U.S.C. 3502-3520), the FCC invites the general public and other Federal agencies to take this opportunity to comment on the following information collection. Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB Control Number. No person shall be subject to any penalty for failing to comply with a collection of information subject to the PRA that does not display a valid OMB Control Number.

DATES: Written PRA comments should be submitted on or before March 3, 2014. If you anticipate that you will be submitting PRA comments, but find it difficult to do so within the period of time allowed by this notice, you should advise the FCC contact listed below as soon as possible.

ADDRESSES: Submit your PRA comments to Nicholas A. Fraser, Office of Management and Budget (OMB), via fax at 202-395-5167, or via the Internet at Nicholas_A._Fraser@omb.eop.gov and to Leslie Smith, Office of Managing Director (OMD), Federal Communications Commission (FCC), via the Internet at Leslie.Smith@fcc.gov . To submit your PRA comments by email, send them to: PRA@fcc.gov.

FOR FURTHER INFORMATION CONTACT: Leslie Smith, OMD, FCC, at 202-418-0217, or via the Internet at: Leslie.Smith@fcc.gov.

SUPPLEMENTARY INFORMATION:

OMB Control Number: 3060-1188.

Title: Connect America Challenge Process and Certifications, FCC Form 505.

Form Number: FCC Form 505.

Type of Review: Revision of a currently approved collection.

Respondents: Business or other for-profit, not-for-profit institutions and state, local or tribal government.

Number of Respondents and Responses: 178 respondents; 178 responses.

Estimated Time per Response: 3 hours to 20 hours.

Frequency of Response: On occasion and annual reporting requirements and third party disclosure requirements.

Obligation to Respond: Required to obtain or retain benefits. Statutory authority for this information collection is contained in 47 U.S.C. 151, 154(i)-(j), 155, 201(b), 214, 218-220, 254, and 1302 of the Communications Act of 1934, as amended.

Total Annual Burden: 1,793 hours.

Total Annual Cost: None.

Privacy Impact Assessment: No impact(s).

Nature and Extent of Confidentiality: The Commission is not requesting respondents to submit confidential information to the Commission. However, respondents may request materials or information submitted to the Commission or to the Administrator be withheld from public inspection under 47 CFR 0.459 of the Commission's rules. We note that USAC must preserve the confidentiality of all data obtained from respondents; must not use the data except for purposes of administering the universal service programs; and must not disclose data in company-specific form unless directed by the Commission to do so.

Needs and Uses: In November 2011, the Commission adopted an order reforming its high-cost universal service support mechanisms. Connect America Fund; A National Broadband Plan for Our Future; Establish Just and Reasonable Rates for Local Exchange Carriers; High-Cost Universal Service Support; Developing a Unified Intercarrier Compensation Regime; Federal-State Joint Board on Universal Service; Lifeline and Link-Up; Universal Service Reform—Mobility Fund, WC Docket Nos. 10-90, 07-135, 05-337, 03-109; GN Docket No. 09-51; CC Docket Nos. 01-92, 96-45; WT Docket No. 10-208, Report and Order and Further Notice of Proposed Rulemaking, 26 FCC Rcd 17663 (2011) (USF/ICC Transformation Order).

As part of the USF/ICC Transformation Order, the Commission adopted several subsequent Orders for implementing the Connect American Phase I and Phase II funding:

On May 16, 2013, the Commission adopted a second Connect America Fund, Report and Order, WC Docket No. 10-90, DA 13-1113. The Report and Order set forth the format and substance of the submissions carriers must make to elect Phase II funding through the state-level commitment process. Additionally, this Report and Order established the parameters for the Connect America Phase II challenge process. These parameters included requirements for what parties must submit to the Commission when making a challenge, as well as the form that parties must use in making any challenges New requirements being proposed in this information collection are the Geocoded Information for Phase I Two- and Three-Year Milestone Reports; Broadband Initiatives Program/Broadband Technology Opportunities Program Annual Milestone Reports; Phase I Investment Annual Milestone Reports; Changes in Phase I Deployments; and Connect America Phase II State-Level Commitment Elections. There will also be a 533 hour increase in the estimated hourly burden.

On May 21, 2013, the Commission adopted a third Connect America Fund, Report and Order, WC Docket No. 10-90, FCC 13-73. This Report and Order provided for a second round of Connect America Phase I support and specified what certifications and reporting requirements carriers must comply with if electing to accept second round support.

These Orders contained information collection requirements for which the Commission received OMB approval following an emergency request in a Notice of Action on July 9, 2013.

Then on July 15, 2013, the Commission adopted the Connect America Fund, Order on Reconsideration, WC Docket No. 10-90, FCC 13-97, which modified a reporting requirement contained in the May 21, 2013 Report and Order. The Order on Reconsideration made mandatory the reporting of changes in deployment locations involving census blocks that were not previously identified. This reporting had previously been optional under the original Report and Order.

This revised information collection addresses these additional requirements to carry out the programs set forth in the USF/ICC Transformation Order. This submission also includes an extension of the certifications related to second round Phase I funding and the requirements contained in FCC Form 505, “Connect America Phase II Challenge Process Form.” Finally, the Commission has made some minor edits to the FCC Form 505 and its instructions.

Federal Communications Commission.
Marlene H. Dortch,
Secretary, Office of the Secretary, Office of Managing Director.

[FR Doc. 2014-01981 Filed 1-30-14; 8:45 am]

BILLING CODE 6712-01-P